FEDERAL COMMUNICATIONS COMMISSION

47 CFR Part 73

[DA 07-3414; MB Docket No. 06-46; RM-11256]

Radio Broadcasting Services; Little Rock and Waukomis, AR

AGENCY: Federal Communications Commission.

ACTION: Final rule.

SUMMARY: At the request of Linda Crawford d/b/a Waukomis Broadcasting, Channel 292A is allotted at Waukomis, Oklahoma, as the community's first local aural transmission service. Channel 292A is allotted at Waukomis, Oklahoma, at Petitioner's requested site 6.3 kilometers (3.9 miles) southwest of the community at coordinates 36-14-01 NL and 97-56-25 WL.

DATES: Effective September 10, 2007.

ADDRESSES: Federal Communications Commission, 445 Twelfth Street, SW., Washington, DC 20554.

FOR FURTHER INFORMATION CONTACT: Victoria McCauley, Media Bureau, (202) 418-2180.

SUPPLEMENTARY INFORMATION: This is a synopsis of the Commission's Report and Order, MB Docket No. 06-46, adopted July 25, 2007, and released July 27, 2007. The full text of this Commission decision is available for inspection and copying during normal business hours in the FCC's Reference Information Center at Portals II, CY-A257, 445 Twelfth Street, SW., Washington, DC 20554. This document may also be purchased from the Commission's duplicating contractor, Best Copy and Printing, Inc., Portals II, 445 12th Street, SW., Room CY-B402, Washington, DC 20554, telephone 1-800-378-3160, or via e-mail http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Oklahoma is amended by adding Waukomis, Channel 292A.

Federal Communications Commission.
John A. Karousos,
Assistant Chief, Audio Division, Media Bureau.

[FR Doc. E7-15704 Filed 8-14-07; 8:45 am]

BILLING CODE 6712-01-P